OFFICE OF THE UNITED STATES TRADE REPRESENTATIVE

Implementation of United States-Panama Trade Promotion Agreement Tariff-Rate Quota for Imports of Sugar

AGENCY: Office of the United States Trade Representative.

ACTION: Notice.

SUMMARY: USTR is providing notice that the tariff-rate quotas for sugar established by the United States-Panama Trade Promotion Agreement will be administered using certificates.

DATES: Effective Date: October 31, 2012.

ADDRESSES: Inquiries may be mailed or delivered to Ann Heilman-Dahl, Director of Agriculture Affairs, Office of the United States Trade Representative, 600 17th Street NW., Washington, DC 20508.

FOR FURTHER INFORMATION CONTACT: Ann Heilman-Dahl, Office of Agriculture Affairs, telephone: (202) 395-6127 or facsimile: (202) 395-4579.

SUPPLEMENTARY INFORMATION: On June 28, 2007, the United States entered into the United States-Panama Trade Promotion Agreement (the “Agreement”). Congress approved the Agreement in section 101(a) of the United States-Panama Trade Promotion Agreement Implementation Act (the “Implementation Act”) (Pub. L. 112-43, 125 Stat. 497) (19 U.S.C. 3805 note).

The President is authorized under section 201(d) of the Implementation Act to take such action as may be necessary in implementing the tariff-rate quotas set forth in Appendix I to the General Notes to the Schedule of the United States to Annex 3.3 of the Agreement (“Appendix I”) to ensure the orderly marketing of commodities in the United States. Under a tariff-rate quota, the United States applies one tariff rate, known as the “in-quota tariff rate,” to imports of a product up to a particular amount, known as the “in-quota quantity,” and a different, higher tariff rate, known as the “over-quota tariff rate,” to imports of the product in excess of that amount.)

Appendix I of the Agreement establishes three tariff-rate quotas for imports of sugar from Panama.

USTR is providing notice that the United States, consistent with Note 6(a), and (e) of Appendix I, is administering two of the duty-free quantities of sugar established under the Agreement, the sugar and sugar-containing products (SCPs) tariff-rate quota and the raw sugar tariff-rate quota, through a certificate system substantially similar to that described in 15 CFR 2011.102(c) (2006).

Consistent with 15 CFR 2011.102(c), no sugar that is the product of Panama may be permitted entry under the in-quota tariff-rate established for imports of raw sugar or the in-quota tariff-rate established for imports of sugar and SCPs from Panama unless at the time of entry the person entering such sugar presents to the appropriate customs official a valid and properly executed certificate of quota eligibility for such sugar. The Secretary of Agriculture will issue such certificates of quota eligibility to the Government of Panama. These certificates, when duly executed and issued by the certifying authority of Panama, will authorize entry into the United States at the in-quota tariff-rate established under the Agreement.

The Office of Management and Budget (OMB) has approved the information collection requirements related to certificates for quota eligibility in accordance with 44 U.S.C. Chapter 25, and OMB control number 0551-0014 has been assigned with corresponding clearance effective through October 31, 2013.

USTR is also providing notice that the United States, consistent with Note 6(h) of Appendix I, is administering the duty-free quantities of specialty sugar established under the Agreement through a specialty sugar certificate system substantially similar to that described in 15 CFR 2011.202(b) (2006). Consistent with 15 CFR 2011.202(b), no specialty sugar that is the product of Panama may be permitted entry under the in-quota tariff-rate established for imports of specialty sugar from Panama unless at the time of entry the person entering such sugar presents to the appropriate customs official a valid and properly executed specialty sugar certificate for such sugar. The Secretary of Agriculture will issue such specialty sugar certificates. These certificates, when issued by the Secretary of Agriculture, will authorize entry into the United States at the in-quota tariff-rate established under the Agreement.

The Office of Management and Budget (OMB) has approved the information collection requirements related to specialty sugar certificates in accordance with 44 U.S.C. Chapter 25, and OMB control number 0551-0025 has been assigned with corresponding clearance effective through March 31, 2015.

Ronald Kirk,
United States Trade Representative.

[FR Doc. 2012-26431 Filed 10-25-12; 8:45 am]

BILLING CODE 3290-F3-P